INTERNATIONAL TRADE COMMISSION

[Investigation Nos. 701-TA-365-366 and 731-TA-734-735 (Second Review)]

Certain Pasta From Italy and Turkey

Determinations

On the basis of the record ¹ developed in the subject five-year reviews, the United States International Trade Commission (Commission) determines, pursuant to section 751(c) of the Tariff Act of 1930 (19 U.S.C. 1675(c)), that revocation of the countervailing duty and antidumping duty orders on certain pasta from Italy and Turkey would be likely to lead to continuation or recurrence of material injury to an industry in the United States within a reasonably foreseeable time.

¹ The record is defined in sec. 207.2(f) of the Commission's Rules of Practice and Procedure (19 CFR 207.2(f)).

Background

The Commission instituted these reviews on October 2, 2006 (71 FR 57999) and determined on January 5, 2007 that it would conduct full reviews (72 FR 2558, January 19, 2007). Notice of the scheduling of the Commission's reviews and of a public hearing to be held in connection therewith was given by posting copies of the notice in the Office of the Secretary, U.S. International Trade Commission, Washington, DC, and by publishing the notice in the Federal Register on February 8, 2007 (72 FR 5996). The hearing was held in Washington, DC, on July 17, 2007, and all persons who requested the opportunity were permitted to appear in person or by counsel.

The Commission transmitted its determinations in these reviews to the Secretary of Commerce on September 27, 2007. The views of the Commission are contained in USITC Publication 3947 (September 2007), entitled Certain Pasta From Italy and Turkey: Investigation Nos. 701-TA-365-366 and 731-TA-734-735 (Second Review).

By order of the Commission.
Issued: September 27, 2007.
Marilyn R. Abbott,
Secretary to the Commission.

[FR Doc. E7-19472 Filed 10-2-07; 8:45 am]

BILLING CODE 7020-02-P